DEPARTMENT OF LABOR

Employment and Training Administration

[TA-W-61,983]

Molon Motor and Coil Corporation, El Paso, TX; Notice of Negative Determination Regarding Application for Reconsideration

By application dated September 17, 2007, the petitioner requested administrative reconsideration of the Department's negative determination regarding eligibility to apply for Trade Adjustment Assistance (TAA), applicable to workers and former workers of the subject firm. The denial notice was signed on September 7, 2007 and published in the Federal Register on September 21, 2007 (72 FR 54076).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Molon Motor and Coil Corporation, El Paso, Texas engaged in production of vacuum cleaner motors was denied because the “contributed importantly” group eligibility requirement of Section 222 of the Trade Act of 1974, as amended, was not met. The “contributed importantly” test is generally demonstrated through a survey of the workers' firm's declining customers. The investigation revealed that all vacuum cleaner motors produced by the subject firm were exported to Mexico and the subject firm had no domestic customers. The investigation further revealed that there was no shift in production from that firm to a foreign country nor did the subject firm import vacuum cleaner motors in 2005, 2006 and January through July 2007.

The petitioner attached a letter from the subject firm's customer indicating that this customer “discontinued use of the Molon motors in favor of an Asian sourced motor” and that this customer “was the sole customer using the motors produced” at the subject firm.

The Department contacted the sole customer of the subject firm for further clarification. The customer confirmed that even though his firm is a U.S. based company, the production facility for which the vacuum cleaner motors were purchased is located in Mexico. The customer stated that all vacuum cleaner motors purchased from the subject firm were shipped directly to the Mexican facility and thus were exports. This facility in Mexico is now purchasing vacuum cleaner motors from Asia and there was no increase in imports of vacuum cleaner motors into the United States by this customer. Therefore, the loss of business at the subject firm is attributed to a loss in export sales.

Conclusion

After review of the application and investigative findings, I conclude that there has been no error or misinterpretation of the law or of the facts which would justify reconsideration of the Department of Labor's prior decision. Accordingly, the application is denied.

Signed in Washington, DC, this 19th day of October, 2007.
Elliott S. Kushner,
Certifying Officer, Division of Trade Adjustment Assistance.

[FR Doc. E7-21187 Filed 10-25-07; 8:45 am]

BILLING CODE 4510-FN-P